MARINE MAMMAL COMMISSION

Advisory Committee on Anthropogenic Sound and Marine Mammals; Notice of Intent, Request for Comments and Nominations

AGENCY: Marine Mammal Commission.

ACTION: Notice of intent to charter the Advisory Committee on Anthropogenic Sound and Marine Mammals and request for comments and nominations.

SUMMARY: The Omnibus Appropriations Act of 2003 (Pub. L. 108-7) directs the Marine Mammal Commission to organize a series of national and international meetings concerning the impacts of sound on marine mammals and how these impacts may be addressed. To help meet this directive, the Commission is considering the establishment of the Advisory Committee on Anthropogenic Sound and Marine Mammals under the Federal Advisory Committee Act (FACA; Pub. L. 92-463). Committee members would participate in a policy dialogue to review available information, identify research needs, and recommend management actions and strategies.

The Commission is seeking comments regarding:

(1) The need for and desirability of establishing an advisory committee pursuant to FACA;

(2) The issues any such Committee should consider; and

(3) The affected individuals, interest groups, or stakeholders who should be represented.

The Commission is also seeking recommendations for possible Committee members who meet the qualifications specified below.

DATES: Comments on this notice of intent and recommendations for Committee members must be submitted in writing before November 5, 2003. The Commission intends to appoint Committee members in December 2003 so that the first Committee meeting can be convened in late January or early February 2004.

ADDRESSES: Written comments and recommendations should be submitted to Erin Vos, Project Manager for Sound-Related Meetings and Actions, Marine Mammal Commission, 4340 East-West Hwy., Rm. 905, Bethesda, MD 20814, e-mail: evos@mmc.gov.

FOR FURTHER INFORMATION CONTACT: Erin Vos at the above address or e-mail, tel.: (301) 504-0087, or fax: (301) 504-0099; or visit the Commission Web site at http://www.mmc.gov.

SUPPLEMENTARY INFORMATION: The Commission is considering the establishment of the Advisory Committee on Anthropogenic Sound and Marine Mammals, which would undertake a policy dialogue to review available information, identify research needs, and recommend management actions and strategies. The Commission has contracted with a team of third-party neutral facilitators who will assess the feasibility of establishing the Committee and will examine options for the format of the dialogue. The Commission will make its final determination on the need for establishing a federal advisory committee after the facilitators submit their feasibility report in November 2003. If the Commission determines that it is necessary and desirable to proceed under the Federal Advisory Committee Act, the Commission, in consultation with the contracted facilitators, will select and appoint Committee members to represent the following stakeholder and interest groups:

• Entities whose activities introduce anthropogenic sounds into the marine environment, including the academic research community, industry (shipping, oil and gas exploration, etc.), and government agencies;

• Non-governmental organizations, including environmental groups;

• Scientists with pertinent expertise; and

• Government agencies that manage or otherwise affect marine mammals.

The Commission will seek a balanced representation among interested parties. Committee members will be expected to have a high level of interest or expertise concerning the impacts of sound on marine mammals and other components of the marine environment. Additional criteria considered when selecting Committee members may include:

• Ability to attend Committee meetings;

• Decision-making authority;

• Ability to represent a constituency and communicate effectively with constituents whose interests they represent;

• Experience in collaborative policy dialogue or negotiation; and

• Likelihood of being affected by the outcome.

Dated: October 15, 2003.
David Cottingham,
Executive Director.

[FR Doc. 03-26472 Filed 10-20-03; 8:45 am]

BILLING CODE 6820-31-M